DEPARTMENT OF THE INTERIOR

Geological Survey

[GR.18.DJ52.CDQ03.00; OMB Control Number 1028-0122]

Agency Information Collection Activities; Yukon-Kuskokwim Delta Berry Outlook

AGENCY: U.S. Geological Survey, Interior.

ACTION: Notice of information collection; request for comment.

SUMMARY: In accordance with the Paperwork Reduction Act of 1995, the U.S. Geological Survey (USGS) is proposing to renew an information collection (IC) with revisions.

DATES: Interested persons are invited to submit comments on or before August 13, 2018.

ADDRESSES: Send your comments on the information collection request (ICR) by mail to the U.S. Geological Survey, Information Collections Clearance Officer, 12201 Sunrise Valley Drive, MS 159, Reston, VA 20192; or by email to gs-info_collections@usgs.gov. Please reference OMB Control Number 1028-0122 in the subject line of your comments.

FOR FURTHER INFORMATION CONTACT: To request additional information about this ICR, contact Nicole Herman-Mercer by email at nhmercer@usgs.gov, or by telephone at 303-236-5031.

SUPPLEMENTARY INFORMATION: We, the U.S. Geological Survey, in accordance with the Paperwork Reduction Act of 1995, provide the general public and other Federal agencies with an opportunity to comment on proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper functions of the USGS; (2) will this information be processed and used in a timely manner; (3) is the estimate of burden accurate; (4) how might the USGS enhance the quality, utility, and clarity of the information to be collected; and (5) how might the USGS minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Abstract: The Yukon-Kuskokwim (YK) Delta Berry Outlook is a data and observer driven ecological monitoring and modeling framework that forecasts changes in berry habitat and abundance with environmental change. To create a berry monitoring protocol and modeling framework we will solicit local knowledge of berry distribution and abundance from members of YK delta communities using a survey instrument. This survey is comprised of two parts, Part A and Part B. Part A consists of propositions that respondents are asked to agree or disagree with using a Likert scale. Propositions are on the subject of timing, abundance, and distribution of four types of berries prevalent in the region. Part B consists of questions concerning the abundance of that year's berry harvest.

Personally Identifiable Information (PII) will be limited to four elements: Names, phone numbers, emails, and the name of the village they reside in. This PII will be collected so that researchers may communicate project results and solicit feedback on the project itself for evaluation purposes. Statistical analysis will be performed on the survey responses in to ascertain if a consensus exists among participants within villages and among villages.

The USGS mission is to serve the Nation by providing reliable scientific information to describe and understand the Earth. This project will collect information from individuals to better understand the abundance, distribution, and variability of berry resources in the Yukon-Kuskokwim Delta region of Alaska. The people of the YK delta hold information about the long-term distribution and abundance of berries that is useful for understanding current and future changes to berry habitat that has the potential to impact wildlife populations of the Yukon Delta region and the Yukon Delta National Wildlife Refuge.

Title of Collection: Yukon-Kuskokwim Delta Berry Outlook.

OMB Control Number: 1028-0122.

Form Number: None.

Type of Review: Revision of a currently approved collection.

Respondents/Affected Public: Individuals residing in Alaska Native Villages.

Total Estimated Number of Annual Respondents: 150.

Total Estimated Number of Annual Responses: 150.

Estimated Completion Time per Response: Twenty-five minutes.

Total Estimated Number of Annual Burden Hours: 62.5 hours.

Respondent's Obligation: Voluntary.

Frequency of Collection: Part A one-time; Part B annually for three years.

Total Estimated Annual Non-hour Burden Cost: None.

An agency may not conduct or sponsor and a person is not required to respond to a collection of information unless it displays a currently valid OMB control number.

The authorities for this action are the Paperwork Reduction Act of 1995 (44 U.S.C. 3501, et seq.).

Pierre Glynn,
Chief, Water Cycle Branch.

[FR Doc. 2018-12560 Filed 6-11-18; 8:45 am]

BILLING CODE 4338-11-P